DEPARTMENT OF LABOR

Employee Benefits Security Administration

Advisory Council on Employee Welfare and Pension Benefit Plans Working Group on Financial Literacy, Working Group on Participant Benefit Statements, and Working Group on Fiduciary Responsibilities Updates and Revenue Sharing; Notice of Meeting

Pursuant to the authority contained in Section 512 of the Employee Retirement Income Security Act of 1974 (ERISA), 29 U.S.C. 1142, the Working Groups assigned by the Advisory Council on Employee Welfare and Pension Benefit Plans to study the issues of (1) financial literacy, (2) participant benefit statements, and (3) fiduciary responsibilities updates and revenue sharing will hold public teleconference meetings on October 16, 2007.

The sessions will take place in Room C5515A, U.S. Department of Labor, 200 Constitution Avenue, NW., Washington, DC 20210. The purpose of the open meetings is for each Working Group to discuss its report/recommendations for the Secretary of Labor. The meetings will run from 10 a.m. to approximately 4 p.m., starting with the Working Group on Financial Literacy, followed by the Working Group on Participant Benefit Statements, followed by the Working Group on Fiduciary Responsibilities Updates and Revenue Sharing.

Organizations or members of the public wishing to submit a written statement pertaining to the topic may do so by submitting 25 copies on or before October 9, 2007 to Larry Good, Executive Secretary, ERISA Advisory Council, U.S. Department of Labor, Suite N-5623, 200 Constitution Avenue, NW., Washington, DC 20210. Statements also may be submitted electronically to good.larry@dol.gov. Statements received on or before October 9, 2007 will be included in the record of the meeting. Individuals or representatives of organizations wishing to address one or more of the Working Groups should forward their requests to the Executive Secretary or telephone (202) 693-8668. Oral presentations will be limited to 10 minutes, time permitting, but an extended statement may be submitted for the record. Individuals with disabilities who need special accommodations should contact Larry Good by October 9 at the address indicated.

Signed at Washington, DC this 24th day of September, 2007.
Bradford P. Campbell,
Assistant Secretary, Employee Benefits Security Administration.

[FR Doc. E7-19190 Filed 9-27-07; 8:45 am]

BILLING CODE 4510-29-P